DEPARTMENT OF COMMERCE

National Oceanic and Atmospheric Administration

RIN 0648-XE578

Endangered and Threatened Species; Take of Anadromous Fish

AGENCY: National Marine Fisheries Service (NMFS), National Oceanic and Atmospheric Administration (NOAA), Department of Commerce.

ACTION: Notice of final determination and discussion of underlying biological analysis; notice of availability of a Record of Decision.

SUMMARY: NMFS has evaluated the joint resource management plans (RMPs) submitted to NMFS by the Washington Department of Fish and Wildlife, and the Jamestown S'Klallam Tribe, Lummi Nation, Nooksack Tribe, Stillaguamish Tribe of Indians, and Tulalip Tribes, pursuant to the limitation on take prohibitions for actions conducted under Limit 6 of the 4(d) Rule for salmon and steelhead promulgated under the Endangered Species Act (ESA). The RMPs specify the propagation of early winter steelhead to support recreational and tribal fishing in the Dungeness, Nooksack, Stillaguamish, Skykomish, and Snoqualmie River watersheds of Washington State. This document serves to notify the public that NMFS, by delegated authority from the Secretary of Commerce, has determined pursuant to Limit 6 of the 4(d) rule for salmon and steelhead that implementing and enforcing the RMPs will not appreciably reduce the likelihood of survival and recovery of Puget Sound Chinook salmon, Hood Canal summer-run chum salmon, and Puget Sound steelhead. In compliance with the National Environmental Policy Act (NEPA), NMFS also announces the availability of its Record of Decision (ROD) on its Final Environmental Impact Statement (FEIS) for the five early-winter steelhead hatchery programs in Puget Sound.

DATES: The final determination on the take limit under the ESA was made on April 15, 2016. The Record of Decision under NEPA was signed on April 15, 2016.

ADDRESSES: Written responses to the determinations should be sent to the Sustainable Fisheries Division, 1201 NE. Lloyd Boulevard, Suite 1100, Portland, OR 97232. The complete text of the determinations, the analysis of the effects of the plans, and the ROD, along with additional documents and information, are available on the NMFS West Coast Region Web site at http://www.westcoast.fisheries.noaa.gov/hatcheries/salmon_and_steelhead_hatcheries.html.

FOR FURTHER INFORMATION CONTACT: For ESA determinations, contact Tim Tynan at (360) 753-9579 or via email: tim.tynan@noaa.gov. For information on the ROD, contact Steve Leider at (360) 753-4650 or via email: steve.leider@noaa.gov.

SUPPLEMENTARY INFORMATION:

Species Covered in This Notice

Chinook salmon (Oncorhynchus tshawytscha): Threatened, Puget Sound, naturally produced and artificially propagated.

Chum salmon (O. keta): Threatened, Hood Canal summer-run, naturally produced and artificially propagated.

Steelhead (O. mykiss): Threatened, Puget Sound, naturally produced and artificially propagated.

Background

The RMPs are represented by five Hatchery and Genetics Management Plans (HGMPs). The HGMPs describe hatchery operations intended to produce early winter steelhead to mitigate for impacts on tribal and recreational fishing caused by past and on-going human developmental activities in the Dungeness, Nooksack, Stillaguamish, Skykomish, and Snoqualmie River watersheds. They would be implemented to provide hatchery fish to: (1) Meet regional recreational fisheries objectives for the citizens of Washington State, and (2) meet tribal fishery harvest allocations that are guaranteed through treaties, as affirmed in United States v. Washington (1974). Adult steelhead produced by the programs are not intended to spawn naturally. All five proposed hatchery programs would use only hatchery fish for broodstock, and all HGMPs include monitoring and evaluation actions to assess the performance of each program, and effects on ESA-listed Puget Sound Chinook salmon, Hood Canal summer chum salmon (Dungeness River only), and Puget Sound steelhead. NMFS has determined that implementing and enforcing the RMPs will not appreciably reduce the likelihood of survival and recovery of ESA-listed Puget Sound Chinook salmon, Hood Canal summer-run chum salmon, or Puget Sound steelhead.

NMFS West Coast Region was the lead agency responsible for preparing an FEIS to analyze the impacts of NMFS's 4(d) determination under Limit 6 for the five early winter steelhead hatchery programs. The FEIS evaluates five alternatives, including the proposed action and a no-action alternative. The notice of availability of the FEIS was published in the Federal Register on March 11, 2016 (81 FR 12898).

Discussion of the Biological Analysis Underlying the ESA Determination

The proposed hatchery activities described in the RMPs are intended to provide non-ESA-listed adult steelhead for harvest in recreational and tribal fisheries in the five watersheds where the programs would operate. The RMPs provide the framework through which the State of Washington and the Tribes can jointly manage early winter steelhead hatchery, monitoring, and evaluation activities while meeting requirements specified under the ESA. The proposed action covers continued operation of the five hatchery programs to produce steelhead for harvest, while minimizing any impacts on the genetic integrity of natural steelhead populations, and ecological and demographic impacts on natural ESA-listed Chinook salmon, chum salmon, and steelhead.

All steelhead produced through the five programs are derived from broodstock native to Puget Sound but not native to the watersheds where the fish would be planted. The early-winter steelhead stock released through the programs is not included as part of the listed Puget Sound Steelhead Distinct Population Segment (DPS). Operational protocols applied through the five hatchery programs would minimize potential risks to associated listed natural-origin steelhead, Chinook salmon, and (for the Dungeness River program) summer chum salmon populations in each of the watersheds where the programs are located. Particular emphasis is placed on ensuring that returning adult hatchery early-winter steelhead do not interact to a substantial degree with natural-origin steelhead populations in natural spawning areas. Hatchery management measures are applied to reduce the risk of spatial and temporal overlap, straying, and interbreeding between early-winter steelhead and natural-origin steelhead. The five HGMPs share very low genetic effects on natural-origin steelhead—essentially no estimated hatchery fish contribution or gene flow—demonstrated by DNA sampling results and other analyses of genetic introgression.

As part of the proposed hatchery programs, monitoring and evaluation would be implemented to assess their effects on ESA-listed natural-origin steelhead, Chinook salmon, and summer chum salmon, and program performance in meeting harvest augmentation objectives. The hatchery plans emphasize monitoring and evaluation of genetic effects as a key objective to validate that effects are, and will remain, low and within levels identified as posing unsubstantial risks to listed natural-origin steelhead. Information gained through monitoring and evaluation will also be used to assess whether levels for other hatchery-related program impacts on listed fish (e.g., hatchery facilities, competition, and predation) are unsubstantial. The RMPs include provisions for annual reports that will assess compliance with performance standards established in the plans. Review of the RMPs and reports by NMFS, Washington State, and the Tribes will occur annually to evaluate whether assumptions regarding hatchery plan effects and analyses remain valid, and whether the objectives of the plans are being accomplished. NMFS' evaluation is available on the NMFS West Coast Region Web site (see ADDRESSES).

Summary of Comments Received in Response to the Proposed Evaluation and Pending Determination

NMFS published two notices of its proposed evaluation and pending determinations for public review and comment on March 26, 2015 (80 FR 15984), and February 23, 2016 (81 FR 8941). The proposed evaluation and pending determination was available for public review and comment for 39 days. During the public comment period, NMFS received substantive comments specifically addressing the proposed evaluation and pending determination from two non-governmental organizations. None of the comments raised issues that required changes to the RMPs, or substantive modification of the NMFS proposed evaluation and pending determination document. In response to the comments, minor revisions were made in the NMFS document to clarify language included in the hatchery plan action description and effects evaluation sections. A detailed summary of the comments and NMFS' responses is also available on the NMFS West Coast Region Web site. Based on its evaluation and recommended determination and taking into account the public comments, NMFS issued its final determination on the early-winter steelhead hatchery RMPs.

Record of Decision—FEIS on Puget Sound Early-Winter Steelhead Programs

NMFS has decided to select Alternative 5 from the FEIS. Alternative 5 was the agency's preferred alternative in the FEIS. Under the selected alternative, NMFS would make a determination that the HGMPs submitted by the co-managers, including a revised HGMP for the Skykomish early-winter steelhead program, meet requirements of the ESA 4(d) rule. The early-winter steelhead hatchery programs proposed in the Dungeness, Nooksack, Stillaguamish, Skykomish, and Snoqualmie River watersheds would be implemented as described in the submitted HGMPs. The ROD documents NMFS's decision, identifies all alternatives considered in reaching the decision, specifies the alternative considered to be environmentally preferable, and identifies and discusses relevant factors which were balanced by NMFS in making its decision.

Authority

Under section 4 of the ESA, the Secretary of Commerce is required to adopt such regulations as she deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to actions undertaken in compliance with an RMP developed jointly by the State of Washington and the Tribes and determined by NMFS to be in accordance with the salmon and steelhead 4(d) rule (65 FR 42422, July 10, 2000).

We also apply this notice in accordance with the requirements of NEPA as amended (42 U.S.C. 4371 et seq.) and its implementing regulations (40 CFR 1500 part 1506.6), and other appropriate Federal laws and regulations, and policies and procedures of NMFS for compliance with those regulations.

Dated: April 21, 2016.
Angela Somma,
Chief, Endangered Species Division, Office of Protected Resources, National Marine Fisheries Service.

[FR Doc. 2016-09766 Filed 4-26-16; 8:45 am]

BILLING CODE 3510-22-P